DEPARTMENT OF COMMERCE

National Oceanic and Atmospheric Administration

RIN 0648-XE617

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a two and a half day meeting of its Standing, Socioeconomic, Shrimp, Spiny Lobster, and Reef Fish Scientific and Statistical Committees (SSC).

DATES: The meeting will begin at 9 a.m. on Wednesday, June 1, 2016, and end at 12 noon on Friday, June 3, 2016. To view the agenda, see SUPPLEMENTARY INFORMATION.

ADDRESSES: The meeting will be held at the Hilton Westshore Tampa Airport Hotel, 2225 N. Lois Avenue, Tampa, FL 33607; telephone: (813) 877-6688.

Council address: Gulf of Mexico Fishery Management Council, 2203 N. Lois Avenue, Suite 1100, Tampa, FL 33607; telephone: (813) 348-1630.

FOR FURTHER INFORMATION CONTACT: Steven Atran, Senior Fishery Biologist, Gulf of Mexico Fishery Management Council; steven.atran@gulfcouncil.org, telephone: (813) 348-1630.

SUPPLEMENTARY INFORMATION:

Agenda

Day 1—Wednesday, June 1, 2016; 9 a.m.-5 p.m.

I. Introductions and Adoption of Agenda

II. Selection of SSC representative at June, 2016 Council meeting

Standing and Socioeconomic SSC Session

III. Socioeconomic considerations for sector management

a. Reef Fish Amendment 41 (Red Snapper Charter for Hire)

b. Reef Fish Amendment 42 (Reef Fish Headboat Management)

IV. Grouper/Tilefish IFQ 5-year Review (Market Power Analysis)

Standing, Socioeconomic, and Shrimp SSC Session

V. Approval of March 8, 2016 Standing and Special Shrimp SSC minutes

VI. Shrimp Amendment 17B (OY, MSY, number of permits, permit pool, transit provisions)

a. Review of amendment

b. Aggregate MSY/OY Working Group summary

Standing, Socioeconomic, and Spiny Lobster SSC Session

VII. Approval of spiny lobster portion of March 10, 2015 Standing, Special Shrimp, and Special Spiny Lobster SSC minutes

VIII. Review of 2014/2015 and 2015/2016 (preliminary) Spiny Lobster Landings

a. Spiny Lobster Review Panel summary

b. Spiny Lobster AP summary

IX. Other Non-Reef Fish Business

Standing and Reef Fish SSC Session

X. Approval of January 5-6, 2016 Standing and Special Reef Fish SSC minutes

XI. SSC members serving as Council state designees

XII. Discussion of Methods to Address Recreational Red Snapper ACL Underharvests

Day 2—Thursday, June 2, 2016; 8:30 a.m.-5 p.m.

Standing and Reef Fish SSC Session (continued)

XIII. Review and Approval of Terms of Reference

a. Gag update assessment

b. Greater amberjack update assessment

XIV. Review of Research and Operational Cycles for SEDAR Stock Assessments

XV. Review of SEDAR Assessment Schedule

a. Review of SEDAR schedule as of April 2016

b. Council recommendations for 2019 stock assessments

XVI. Decision Tool for Gray Triggerfish Bag Limits, Size Limits, and Closed Season Analyses

XVII. SEDAR 45 Vermilion Snapper standard assessment

XVIII. Reevaluation of SSC Recommendation for Hogfish Equilibrium ABC

XIX. OY Exceeding MSY in Some Scenarios

Day 3—Friday, June 2, 2016; 8:30 a.m.-12 noon

Standing and Reef Fish Session (continued)

XX. Review of Draft Amendment 44-MSST and MSY Proxies for Reef Fish Stocks

XXI. Reef Fish Other Business

— Meeting Adjourns —

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest.” Click on the “Library Folder”, then scroll down to “SSC meeting-2016-06.”

The meeting will be webcast over the internet. A link to the webcast will be available on the Council's Web site, http://www.gulfcouncil.org.

Although other non-emergency issues not on the agenda may come before the Scientific and Statistical Committee for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: May 9, 2016.
Jeffrey N. Lonergan,
Acting Deputy Director, Office of Sustainable Fisheries, National Marine Fisheries Service.

[FR Doc. 2016-11207 Filed 5-11-16; 8:45 am]

BILLING CODE 3510-22-P